DEPARTMENT OF TRANSPORTATION

Federal Aviation Administration

14 CFR Part 71

[Docket No FAA-2005-23437; Airspace Docket No. 05-AWA-2]

RIN 2120-AA66

Modification of the Phoenix Class B Airspace Area; Arizona

Correction

In rule document 07-3818 beginning on page 44372 in the issue of Wednesday, August 8, 2007, make the following corrections:

§ 71.1 [Corrected]

1. On page 44376, in the second column, in § 71.1, in the third full paragraph, in the sixth and seventh lines, “long. 112°26′7″ W.” should read “112°26′07″ W.”.

2. On the same page, in the third column, in the same section, in the first full paragraph, in the fifth line, “lat. 33°24′″ N.” should read “lat. 33°24′00″ N.”.

[FR Doc. C7-3818 Filed 8-27-07; 8:45 am]

BILLING CODE 1505-01-D